DEPARTMENT OF ENERGY

Federal Energy Regulatory Commission

[Docket No. RP02-167-000]

Florida Gas Transmission Company; Notice of Filing

March 5, 2002.

Take notice that on February 28, 2002, Florida Gas Transmission Company (FGT) tendered for filing service agreements for its Phase V Expansion. No tariff changes are proposed.

FGT states that pursuant to the Preliminary Determination on Nonenvironmental Issues issued by the Federal Energy Regulatory Commission (Commission) on November 22, 2000 in Docket Nos. CP00-40-000, et al., which addressed all of the nonenvironmental issues in the Phase V Expansion, the Commission noted that the service agreements attached to the application did not track exactly the Rate Schedule FTS-2 Form of Service Agreement in the FGT FERC Gas Tariff. The Commission directed that FGT either change the form of service agreement in its tariff to conform to the service agreements in the Phase V Expansion or that FGT change the service agreements to conform to the tariff.

Accordingly, FGT states that it is filing the Phase V service agreements under Section 4 of the Natural Gas Act. In addition, FGT is filing concurrently, in a companion filing, to modify its standard Form of Service Agreement for Rate Schedule No. FTS-2 to incorporate various terms and conditions applicable to expansion projects.

Any person desiring to be heard or to protest said filing should file a motion to intervene or a protest with the Federal Energy Regulatory Commission, 888 First Street, NE., Washington, DC 20426, in accordance with sections 385.214 or 385.211 of the Commission's rules and regulations. All such motions or protests must be filed on or before March 12, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-5731 Filed 3-8-02; 8:45 am]

BILLING CODE 6717-01-P